DEPARTMENT OF HOMELAND SECURITY

Coast Guard

33 CFR Part 117

[Docket No. USCG-2009-0204]

RIN 1625-AA09

Drawbridge Operation Regulation; Mantua Creek, Paulsboro, NJ

AGENCY: Coast Guard, DHS.

ACTION: Notice of proposed rulemaking; withdrawal.

SUMMARY: The Coast Guard is withdrawing its notice of proposed rulemaking concerning the proposed change to the regulations that governed the operation of the S.R. 44 Bridge, at mile 1.7, across Mantua Creek at Paulsboro, NJ. The requested change would have allowed the drawbridge to operate on an advance notice basis year-round.

DATES: The notice of proposed rulemaking is withdrawn on February 9, 2011.

ADDRESSES: The docket for this withdrawn rulemaking is available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, inserting USCG-2009-0204 in the “Keyword” box and then clicking “Search”.

FOR FURTHER INFORMATION CONTACT: If you have questions about this notice, call or e-mail Waverly W. Gregory, Jr., Fifth Coast Guard District; telephone (757) 398-6222, e-mail Waverly.W.Gregory@uscg.mil. If you have questions on viewing material in the docket call Renee V. Wright, Program Manager, Docket Operations, telephone 202-366-9826.

SUPPLEMENTARY INFORMATION:

Background

On April 24, 2009, we published a notice of proposed rulemaking (NPRM) entitled “Drawbridge Operation Regulations; Mantua Creek, Paulsboro, NJ” in the Federal Register (74 FR 18665-18667). The rulemaking would have allowed the drawbridge to operate on an advance notice basis year-round.

Withdrawal

The New Jersey Department of Transportation (NJDOT), the responsible party for the operation of the S.R. 44 Bridge, at mile 1.7, across Mantua Creek at Paulsboro, NJ, had requested to change the operating schedule for the S.R. 44 Bridge to require a four-hour advance notification of vessel openings year-round due to the decrease in vessel opening requests of the drawbridge in recent years.

The Coast Guard recently received an application from the South Jersey Port Corporation and the Gloucester County Improvement Authority proposing the construction of an access road and bridge that will span Mantua Creek within close proximity to the upstream S.R. 44 Bridge. The proposed bridge will be a three-span composite steel plate girder bridge (fixed superstructure) with two concrete piers within Mantua Creek.

Based on the expected increase in the use of the waterway and vessel opening requests of the S.R. 44 Bridge, the rulemaking could impose critical service delays to commercial vessels attempting to arrive promptly on scene for the proposed bridge construction. As a result of this change in circumstances, the proposed rulemaking would no longer improve the schedule for waterway users.

Authority

This action is taken under the authority of 33 U.S.C. 499; 33 CFR 1.05-1; Department of Homeland Security Delegation No. 0170.1.

Dated: January 27, 2011.
William D. Lee,
Rear Admiral, U.S. Coast Guard, Commander, Fifth Coast Guard District.

[FR Doc. 2011-2898 Filed 2-8-11; 8:45 am]

BILLING CODE 9110-04-P